DEPARTMENT OF LABOR

Wage and Hour Division

Agency Information Collection Activities: Comment Request; Information Collections: Davis-Bacon Certified Payroll

AGENCY: Wage and Hour Division, Department of Labor.

ACTION: Notice.

SUMMARY: The Department of Labor (Department), is soliciting comments concerning a proposed revision of the information collection request (ICR) titled “Davis-Bacon Certified Payroll.” This comment request is part of continuing Departmental efforts to reduce paperwork and respondent burden in accordance with the Paperwork Reduction Act of 1995 (PRA). The PRA comment process helps to ensure that requested data can be provided in the desired format, reporting burden (time and financial resources) is minimized, collection instruments are clearly understood, and the impact of collection requirements on respondents can be properly assessed. A copy of the proposed information collection request can be obtained by contacting the office listed below in the FOR FURTHER INFORMATION CONTACT section of this Notice.

DATES: Written comments must be submitted to the office listed in the addresses section below on or before October 29, 2024.

ADDRESSES: You may submit comments, identified by Control Number 1235-0008, by either one of the following methods: Email: WHDPRAComments@dol.gov. Mail, Hand Delivery, Courier: Division of Regulations, Legislation, and Interpretation, Wage and Hour Division, U.S. Department of Labor, Room S-3502, 200 Constitution Avenue NW, Washington, DC 20210.

Instructions: Please submit one copy of your comments by only one method. All submissions received must include the agency name and Control Number identified above for this information collection. Commenters are encouraged to transmit their comments electronically via email or to submit them by mail early. Comments, including any personal information provided, become a matter of public record. They will also be summarized and/or included in the request for Office of Management and Budget (OMB) approval of the information collection request.

FOR FURTHER INFORMATION CONTACT: Robert Waterman, Division of Regulations, Legislation, and Interpretation, Wage and Hour Division, U.S. Department of Labor, Room S-3502, 200 Constitution Avenue NW, Washington, DC 20210; telephone: (202) 693-0406 (this is not a toll-free number). Alternative formats of this notice, e.g., braille, audiotape, or other accessible formats, are available upon request by calling 1-866-487-9243. If you are deaf, hard of hearing, or have a speech disability, please dial 7-1-1 to access telecommunications relay services.

SUPPLEMENTARY INFORMATION:

I. Background: The Davis-Bacon Act (DBA), as enacted in 1931 and subsequently amended, requires the payment of minimum prevailing wages determined by the Department of Labor to laborers and mechanics working on federal contracts in excess of $2,000 for the construction, alteration, or repair, including painting and decorating, of public buildings and public works. See 40 U.S.C. 3141 et seq. Congress has also included the Davis-Bacon requirements in numerous other laws, known as the Davis-Bacon Related Acts (the Related Acts and, collectively with the Davis-Bacon Act, the DBRA), which provide federal assistance for construction projects through grants, loans, loan guarantees, insurance, and other methods.

The Copeland Act (40 U.S.C. 3145) requires the Secretary of Labor to prescribe reasonable regulations for contractors and subcontractors engaged in construction work subject to Davis-Bacon labor standards. While the federal contracting or assistance-administering agencies have a primary responsibility for enforcement of these labor standards, Reorganization Plan Number 14 of 1950 assigns to the Secretary of Labor responsibility for developing government-wide policies, interpretations and procedures to be observed by the contracting and assisting agencies, in order to assure coordination of administration and consistency of DBRA enforcement. 15 FR 3176, reprinted as amended in 5 U.S.C. app. 1.

The Copeland Act provision cited above specifically requires the regulations to “include a provision that each contractor and subcontractor each week must furnish a statement on the wages paid each employee during the prior week.” This requirement is implemented by 29 CFR 3.3 and 3.4 and the standard Davis-Bacon contract clauses set forth at 29 CFR 5.5. The regulation at 29 CFR 5.5 (a)(3)(ii)(A) (“Frequency and method of submission”) requires contractors to submit weekly a copy of all payrolls to the federal agency contracting for or financing the construction project. If the agency is not a party to the contract, the contractor will submit the payrolls to the applicant, sponsor, or owner, as the case may be, for transmission to the contracting agency. This provision requires that the payrolls submitted shall set out, accurately and completely, the information that is required to be maintained under 29 CFR 5.5(a)(3)(ii)(B) (“Information required”).

The information that must be included in the weekly transmittals includes the name of each covered worker; each worker's correct classification(s) of work actually performed; hourly rates of wages paid (including rates of contributions or costs anticipated for bona fide fringe benefits or cash equivalents thereof of the types described in 40 U.S.C. 3141(2)(B) of the Davis-Bacon Act); daily and weekly number of hours actually worked in total and on each covered contract; deductions made; and actual wages paid. The weekly transmittals also must include an individually identifying number for each employee (e.g., the last four digits of the employee's Social Security number).

The provision at 29 CFR 5.5(a)(3)(ii)(B) also states what must not be included in the weekly transmittal. The weekly transmittal must not include workers' full social security numbers, last known addresses, telephone numbers, and email addresses. That information must be recorded and maintained by the contractors as part of the record-keeping provisions in the regulations at 29 CFR 5.5(a)(3)(i)(B), but it must not be included in the weekly transmittals.

The regulations at 29 CFR 5.5(a)(3)(ii)(C) and 29 CFR 3.3(b) require each contractor to furnish weekly a signed “Statement of Compliance” accompanying the payroll indicating the payrolls are correct and complete and that each laborer or mechanic has been paid not less than the proper Davis-Bacon Act prevailing wage rate for the work performed.

The required weekly payroll information may be submitted in any form desired. The information collection request that is the subject of this notice, Optional Form WH-347, is designed to include fields for all of the necessary information so as to satisfy the regulatory and contractual requirements. The weekly submission of a properly executed certification, with the prescribed language set forth on page 2 of Optional Form WH-347, satisfies the requirement for submission of the required “Statement of Compliance.” 29 CFR 5.5(a)(3)(ii)(C). Regulations 29 CFR 3.4(b) and 5.5(a)(3)(ii)(G) require contractors to maintain these certified payrolls for three years after all the work on the prime contract is completed.

The Department is now proposing revisions to form WH-347, to simplify and clarify certain fields and to obtain more specific information about fringe benefits. The revisions also provide for check boxes and electronically fillable fields, which will provide for efficiency, and update the instructions for form WH-347.

II. Review Focus: The Department of Labor is particularly interested in comments which:

• Evaluate whether the proposed collection of information is necessary for the proper performance of the functions of the agency, including whether the information will have practical utility;

• Enhance the quality, utility, and clarity of the information to be collected;

• Evaluate the accuracy of the agency's estimate of the burden of the proposed collection of information, including the validity of the methodology and assumptions used;

• Minimize the burden of the collection of information on those who are to respond, including through the use of appropriate automated, electronic, mechanical, or other technological collection techniques or other forms of information technology, e.g., permitting electronic submissions of responses.

III. Current Actions: The Department seeks approval to revise this information collection to ensure effective administration of the requirements governing the Davis-Bacon Certified Payroll.

Type of Review: Revision.

Agency: Wage and Hour Division.

Title: Davis-Bacon Certified Payroll.

OMB Control Number: 1235-0008.

Agency Numbers: Form WH-347.

Affected Public: Private Sector.

Total Estimated Respondents: 122,936.

Total Annual responses: 11,310,112.

Estimated Total Burden Hours: 10,556,105.

Estimated Time per Response: 55 minutes to complete the WH-347 form or its equivalent plus 1 minute for recordkeeping (total of 56 minutes per form).

Frequency: Weekly, during the course of a covered construction project.

Total Burden Cost (capital/startup): $0.

Total Burden Cost (operating/maintenance): $1,764,379.

Dated: August 23, 2024.
Daniel Navarrete,
Director, Division of Regulations, Legislation, and Interpretation.

[FR Doc. 2024-19482 Filed 8-29-24; 8:45 am]

BILLING CODE 4510-27-P